DEPARTMENT OF COMMERCE

Foreign-Trade Zones Board

[B-19-2024]

Foreign-Trade Zone (FTZ) 50, Notification of Proposed Production Activity; Space Exploration Technologies Corp.; (Internet Satellite Dish Kits); Hawthorne, California

Space Exploration Technologies Corp. (dba SpaceX) submitted a notification of proposed production activity to the FTZ Board (the Board) for its facility in Hawthorne, California, within FTZ 50. The notification conforming to the requirements of the Board's regulations (15 CFR 400.22) was received on May 9, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include internet satellite dish kit (containing internet satellite dish, Wi-Fi router, power supply, stand, cable and instruction guide), internet satellite dish, Wi-Fi router, and power supply (duty-free).

The proposed foreign-status materials/components include: aluminum patch; lubrication grease; glue; adhesive; solder paste; polymers of polycarbonates; polycarbonates resin; silicone resin; stickers; silicone plug; silicone gasket; packaging materials (plastic corner protector, paper box and lid, molded pulp tray, paper pulp insert with tray assembly); plug; printed brochure guide; steel screws; plastic screws; steel spring washer; steel standoff pin; steel ground spring; steel protection shield for antenna; aluminum stand; plastic valve; steel thrust bearing; gears for motor; plastic cover for motor; electric motor; transformer; power supply; semiconductor chips (inductor, resistor, capacitor, thermistor, transistor, frequency control, microcontroller, memory, amplifier, current shunt monitor, temperature sensor, buck regulator controller, receiver, saw filter, data acquisition, voltage regulator, power management, ethernet switch, ferrite); Wi-Fi router; film covered sheet patch; plastic housing for satellite dish; Wi-Fi aluminum heat spreader; plastic kickstand bracket and leg for satellite dish; plastic Wi-Fi router housing; aluminum mast for stand; steel patches and shield for satellite dish; plastic dielectric spacer; internal plastic cover for satellite dish; aluminum heatsink; bulkhead and snap button assembly for mast; bulkhead steel alloy metal sheet; steel metal locking crown; printed circuit board; jack (connector); switch; cable connector; header for connector; diode; light-emitting diodes; accelerometer module; telecommunications cable with connector; telecommunications cable; plug assembly for telecommunicator cable; ethernet adapter; aluminum alloy sheet; power choke; and, diplexer (duty rate ranges from duty-free to 8.6%). The request indicates that certain materials/components are subject to duties under section 301 of the Trade Act of 1974 (section 301) and section 232 of the Trade Expansion Act of 1962 (section 232), depending on the country of origin. The applicable section 301 and section 232 decisions require subject merchandise to be admitted to FTZs in privileged foreign status (19 CFR 146.41).

Public comment is invited from interested parties. Submissions shall be addressed to the Board's Executive Secretary and sent to: ftz@trade.gov. The closing period for their receipt is June 24, 2024.

A copy of the notification will be available for public inspection in the “Online FTZ Information System” section of the Board's website.

For further information, contact Diane Finver at Diane.Finver@trade.gov.

Dated: May 10, 2024.
Elizabeth Whiteman,
Executive Secretary.

[FR Doc. 2024-10622 Filed 5-14-24; 8:45 am]

BILLING CODE 3510-DS-P